DEPARTMENT OF AGRICULTURE

Natural Resources Conservation Service

[Docket No. NRCS-2024-0004]

Proposed Revisions to Section 1 of the Field Office Technical Guides for Louisiana and Wisconsin

AGENCY: Natural Resources Conservation Service, U.S. Department of Agriculture.

ACTION: Notice of availability, request for comments.

SUMMARY: NRCS is giving notice that it is proposing revisions to Section 1—General Resource References of the Field Office Technical Guides in Louisiana and Wisconsin to include revised State Offsite Methods for Food Security Act Wetland Identification (SOSM). The proposed changes will replace the existing SOSMs in Louisianna and Wisconsin, which have been in use since June 2015 and October 2016. The revisions are needed to clarify procedures and improve consistency in application. SOSM are used in completing wetland determinations for USDA program eligibility purposes.

DATES: We will consider comments that we receive by June 5, 2024.

ADDRESSES: We invite you to submit comments in response to this notice. You may submit your comments through:

• Federal eRulemaking Portal: Go to http://www.regulations.gov and search for Docket ID NRCS-2024-0004. Follow the online instructions for submitting comments;

All comments received will be made publicly available on http://www.regulations.gov.

FOR FURTHER INFORMATION CONTACT: For Louisiana: Kris Davis; telephone: (318) 473-7680; email: kris.davis@usda.gov and for Wisconsin: Josh Odekirk; telephone: (608) 662-4422; email: josh.odekirk@usda.gov.

SUPPLEMENTARY INFORMATION: Guidance contained in each state's SOSM will be part of the technical documents and procedures that NRCS uses to determine if wetlands are present on agricultural land as required by 16 U.S.C. 3822. NRCS is required by 16 U.S.C. 3862 to make available for public review and comment all proposed revisions to standards and procedures used to carry out highly erodible land and wetland provisions of the law.

There are separate SOSM documents for each state. To fully understand the proposed revisions, commenters are encouraged to compare the revised SOSMs with each state's current version, as shown in Section 1 of the NRCS Field Office Technical Guide at https://efotg.sc.egov.usda.gov/#/. The electronic copies of each state's SOSM are available through http://www.regulations.gov by accessing Docket ID NRCS-20240004. Requests for paper versions or inquiries may be directed to the specific State Conservationist as identified in the FOR FURTHER INFORMATION CONTACT section above.

In general, both new documents have similar language and technical methodologies with some variations based on natural resource information available and state-specific considerations.

All comments will be considered. If no comments are received, guidance contained in each state's SOSM will be considered final at the end of the comment period for this notice.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunicaions Relay Service (both voice and text telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: OAC@usda.gov.USDA is an equal opportunity provider, employer, and lender.

Terry Cosby,
Chief, Natural Resources Conservation Service.

[FR Doc. 2024-09761 Filed 5-3-24; 8:45 am]

BILLING CODE 3410-16-P